DEPARTMENT OF TRANSPORTATION

Surface Transportation Board

[STB Docket No. AB-254 (Sub-No. 8X)]

Providence and Worcester Railroad Company—Abandonment Exemption—in Providence County, RI

On June 16, 2005, Providence and Worcester Railroad Company (P&W), filed with the Board a petition under 49 U.S.C. 10502 for exemption from the provisions of 49 U.S.C. 10903 to abandon approximately 4.79±miles of its lines of railroad, in Providence County, RI. The lines proposed for abandonment include: (1) a portion of P&W's branch line, known as the East Providence Branch (EP Branch), extending from the switch at milepost 5.53± near Dunnellen Road south to the end of the track at milepost 9.84± near Whipple Avenue in East Providence, a distance of approximately 4.31± miles; and (2) a portion of P&W's branch line, known as the East Junction Branch (EJ Branch), extending from milepost 0.48± at the north side of Dexter Road south to its connection with the EP Branch at milepost 0.0 north of Waterman Avenue in East Providence, a distance of approximately 0.48± miles. The lines traverse U.S. Postal Service Zip Codes 02914, 02915, and 02916. P&W states that there are no active stations or terminals on the portions of the lines proposed for abandonment.

The lines do not contain federally granted rights-of-way. Any documentation in P&W's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by October 4, 2005.

Any offer of financial assistance (OFA) under 49 CFR 1152.27(b)(2) will be due no later than 10 days after service of a decision granting the petition for exemption. Each OFA must be accompanied by a $1,200 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than July 26, 2005. Each trail use request must be accompanied by a $200 filing fee. See 49 CFR 1002.2(f)(27).

All filings in response to this notice must refer to STB Docket No. AB-254 (Sub-No. 8X) and must be sent to: (1) Surface Transportation Board, 1925 K Street, NW., Washington, DC 20423-0001; and (2) Amy Silverstein, Esq., Providence and Worcester Railroad Company, 75 Hammond Street, Worcester, MA 01610; and (3) Edward D. Greenberg, Esq., Galland, Kharasch, Greenberg, Fellman & Swirsky, P.C., 1054 Thirty-First Street, NW., Washington, DC 20007-4492. Replies to the petition are due on or before July 26, 2005.

Persons seeking further information concerning abandonment procedures may contact the Board's Office of Public Services at (202) 565-1592 or refer to the full abandonment or discontinuance regulations at 49 CFR part 1152. Questions concerning environmental issues may be directed to the Board's Section of Environmental Analysis (SEA) at (202) 565-1539. [Assistance for the hearing impaired is available through the Federal Information Relay Service (FIRS) at 1-800-877-8339.]

An environmental assessment (EA) (or environmental impact statement (EIS), if necessary), prepared by SEA, will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: June 29, 2005.
By the Board, David M. Konschnik, Director, Office of Proceedings.
Vernon A. Williams,
Secretary.

[FR Doc. 05-13295 Filed 7-5-05; 8:45 am]

BILLING CODE 4915-01-P